DEPARTMENT OF ENERGY

Federal Energy Regulatory Commission

[Docket No. OR07-17-000]

CCPS Transportation, LLC; Notice of Petition for Declaratory Order

August 15, 2007.

Take notice that, on August 13, 2007, CCPS Transportation, LLC (CCPS), pursuant to Rule 207(a)(2) of the Commission's Rules of Practice and Procedure, 18 CFR 385.207(a)(2) (2007), tendered for filing to the Commission a petition to issue a declaratory order confirming the proposed capacity allocation and rate structure for the planned expansion of the Spearhead Pipeline, which will increase Spearhead's average annual capacity to carry crude petroleum between Flanagan, Illinois and Cushing, Oklahoma by 65,000 barrels per day. Subject to the Commission's approval of this petition, the Spearhead expansion is targeted to go into service in the first quarter of 2009.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the date as indicated below. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time, August 31, 2007.

Kimberly D. Bose,
Secretary.

[FR Doc. E7-16505 Filed 8-21-07; 8:45 am]

BILLING CODE 6717-01-P